DEPARTMENT OF ENERGY

Western Area Power Administration

DEPARTMENT OF THE INTERIOR

U.S. Fish and Wildlife Service

Upper Great Plains Wind Energy Draft Programmatic Environmental Impact Statement (DOE/EIS-0408)

AGENCIES: Western Area Power Administration, U.S. Department of Energy, and U.S. Fish and Wildlife Service, U.S. Department of the Interior.

ACTION: Notice of Availability of Draft Environmental Impact Statement and Notice of Public Hearings.

SUMMARY: In accordance with the National Environmental Policy Act of 1969 (NEPA), as amended, and the Council on Environmental Quality (CEQ) regulations, the U.S. Department of Energy, Western Area Power Administration (Western) and the U.S. Department of the Interior, Fish and Wildlife Service (Service), have, as joint lead agencies, prepared the Upper Great Plains Wind Energy Draft Programmatic Environmental Impact Statement (Draft PEIS).¹ The Draft PEIS evaluates issues associated with wind energy development within Western's Upper Great Plains Customer Service Region (UGP Region), which encompasses all or parts of the states of Iowa, Minnesota, Montana, Nebraska, North Dakota, and South Dakota, and upon the Service's landscape-level grassland and wetland easements in the same area. The U.S. Department of the Interior, Bureau of Reclamation (Reclamation) and Bureau of Indian Affairs (BIA), and the U.S. Department of Agriculture, Rural Utility Services (RUS) have participated as cooperating agencies. Public hearings will be held during the public comment period on the Draft PEIS. The Draft PEIS is available on the project Web site at: http://plainswindeis.anl.gov http://www.energy.ca.gov/sitingcases/ricesolar/index.html.

¹ On November 16, 2011, DOE's Acting General Counsel delegated to Western's Administrator all the authorities of the General Counsel respecting environmental impact statements.

DATES: The public hearings will be held April 30 and May 1 and 2, 2013. The agencies will also announce the public hearings through the local media, the project Web site (http://plainswindeis.anl.gov), and an interested party mailing list. The public comment period on the Draft PEIS starts with the publication of this notice in the Federal Register and will continue until May 21, 2013. Western and the Service will consider all electronic and written comments on the Draft PEIS received or postmarked by that date. Agencies, interested parties, and the public are invited to submit comments on this Draft PEIS at any time during the public comment period.

ADDRESSES: Western and the Service will hold public hearings to obtain comments on the Draft PEIS at the following locations:

1. April 30, 2013, Crowne Plaza Hotel, 27 North 27th Street, Billings, MT.

2. May 1, 2013, Ramada Bismarck Hotel & Conference Center, 1400 East Interchange Avenue, Bismarck, ND.

3. May 2, 2013, Best Western Plus Ramkota, 3200 West Maple Street, Sioux Falls, SD.

Public hearings will begin at 5 p.m. and will include a pre-hearing informal open house; introductory presentations on the proposed action by Western and the Service; the formal hearing beginning at 6 p.m. where oral comments from interested parties and the public will be heard; and an informal period after the close of the hearing.

You may submit comments electronically, using the online comment form available on the project Web site (http://plainswindeis.anl.gov/index.cfm), orally or written at the hearings, or by letter to WESTERN/FWS Draft Wind Energy PEIS Comments, c/o John Hayse, Argonne National Laboratory, 9700 S. Cass Avenue—EVS/240, Argonne, IL 60439.

FOR FURTHER INFORMATION CONTACT: For information on Western's proposed programmatic environmental evaluation procedures for wind energy project interconnections, and general information about interconnections with Western's transmission system, contact Nicholas Stas, Regional Environmental Manager, Upper Great Plains Customer Service Region, Western Area Power Administration, P.O. Box 35800, Billings, MT 59107-5800, telephone (406) 255-2810, facsimile (406) 255-2900, email stas@wapa.gov. For information on the PEIS process, or to receive a copy of the Draft PEIS, contact Mark Wieringa, NEPA Document Manager, Western Area Power Administration, P.O. Box 281213, Lakewood, CO 80228-8213, telephone (800) 336-7288, facsimile (720) 962-7263, email wieringa@wapa.gov.

For information on the Service's participation in the PEIS, contact Lloyd Jones, U.S. Fish and Wildlife Service, Audubon National Wildlife Refuge Complex, 3275 11th Street, Coleharbor, ND 58531-9419, telephone (701) 442-5474 ext. 111, facsimile (701) 442-5546, email Lloyd_Jones@fws.gov.

For general information on the DOE NEPA process, please contact Carol M. Borgstrom, Director, Office of NEPA Policy and Compliance (GC-54), U.S. Department of Energy, 1000 Independence Avenue SW., Washington, DC 20585, telephone (202) 586-4600 or (800) 472-2756.

SUPPLEMENTARY INFORMATION: In response to an increase in wind energy development Western and the Service have interests in streamlining their procedures for conducting environmental reviews of wind energy applications by implementing standardized evaluation procedures and identifying measures to address potential environmental impacts associated with wind energy projects in the UGP Region. As joint lead agencies, Western and the Service have cooperatively prepared this PEIS to (1) assess the potential environmental impacts associated with wind energy projects within the UGP Region that may interconnect to Western's transmission system, or that may propose placement of project elements on grassland or wetland easements managed by the Service; and (2) evaluate how environmental impacts would differ under alternative sets of environmental evaluation procedures, best management practices, and mitigation measures that the agencies would request project developers to implement (as appropriate for specific wind energy projects).

The objective of the PEIS is to support the environmental review process by having already addressed general environmental concerns. The Draft PEIS analyzes, to the extent practicable, the impacts resulting from development of wind energy projects and the effectiveness of best management practices and mitigation measures in reducing potential impacts. Impacts and mitigation have been analyzed for each environmental resource, and all aspects of wind energy projects have been addressed, including turbine, transformer, collector line, access road, substation installations, and operational and maintenance activities. The environmental procedures and mitigation strategies have been structured to complement Western's Open Access Transmission Service Tariff.

Many of the impacts resulting from wind energy infrastructure development, including siting wind turbines, access roads, underground collector lines, overhead lines, and substations, are well known. Similarly, effective best management practices and mitigation measures have been developed to reduce the environmental impacts of constructing and operating wind energy projects. The Draft PEIS collected and analyzed this information as it applies to wind energy development in the six states included in the UGP Region. Specifically, the Draft PEIS has:

1. Defined areas with a high potential for wind energy development near the UGP Region's transmission system in anticipation of future wind-generation interconnection requests.

2. Defined natural and human environment resources in areas with high wind energy development potential, including Native American lands, to support analyses of the environmental impacts and development of wind energy projects.

3. Identified standardized environmental evaluation procedures, best management practices, and mitigation measures to be used by interconnection applicants for identifying and reducing wind energy development impacts of their projects on the natural and human environment.

4. Initiated a programmatic Endangered Species Act (ESA) Section 7 consultation for federally listed and proposed threatened and endangered species within the study area boundaries established for the PEIS.

5. Provided guidance for interconnection applicants that includes information about natural resources within areas with a high potential for wind development, requirements for subsequent site-specific environmental reviews, and appropriate best management practices and mitigation measures to address adverse environmental impacts related to wind projects and associated transmission system enhancements.

The Service maintains a grassland and wetland easement program to support and enhance waterfowl populations in the Prairie Pothole Region. The Service has developed a plan that will, in some circumstances, allow partial release of an easement for wind generation purposes, only with defined conditions and on a specified area, in exchange for additional easement acreage being conveyed to the Service. A streamlined approach for compliance (NEPA, National Historic Properties Act [NHPA], and ESA) for subsequent site-specific wind development projects in the future would result from this PEIS.

In accordance with the NEPA (42 U.S.C. 4321), and CEQ regulations (40 CFR parts 1500-1508), 1501.5(b), Western and the Service have served as joint lead agencies in the preparation of the Draft PEIS. Western and the Service are engaged in informal consultation under Section 7 of the ESA in support of the PEIS process. A Programmatic Biological Assessment has been prepared for listed and candidate species occurring in the UGP Region, and it is expected that the Ecological Services Field Office will issue a letter of concurrence as a result of this consultation.

CEQ regulations require that Western and the Service invite any Federal, State, or local agency or tribal government with jurisdiction by law or special expertise in wind energy development and/or electricity transmission operation to be a cooperating agency. Reclamation, BIA, and RUS have participated as cooperating agencies in the preparation of the Draft PEIS. Other agencies or state or tribal governments could become cooperating agencies at their request.

Public Hearings

Public hearings will begin at 5 p.m. and will include a pre-hearing informal open house; introductory presentations on the proposed action by Western and the Service; the formal hearing beginning at 6 p.m. where oral comments from interested parties and the public will be heard; and an informal period after the close of the hearing. Oral comments from the public will commence immediately after the presentations. Equal consideration will be given to electronic, oral, and written comments. Western and the Service encourage electronic submissions if possible. All meeting locations will be handicapped-accessible. Anyone needing special accommodations should contact Western or the Service to make arrangements.

Public Involvement and Comments

Interested parties are invited to review the Draft PEIS and provide comments. The comment process is intended to involve all interested agencies (Federal, State, county, and local), public interest groups, businesses, and members of the public.

The outcome of this PEIS may affect or apply to tribal resources. Therefore, Western and the Service have consulted with potentially affected tribes throughout the development of the Draft PEIS to jointly evaluate and address the potential effects, if any, of the proposed action. No specific concerns have been identified, mainly because specific projects and locations have not yet been developed. Once individual projects are proposed, project-specific consultations with tribes would be conducted in accordance with Executive Order 13175 “Consultation and Coordination with Indian Tribal Governments” (65 FR 67249), the President's memorandum of November 5, 2009, “Tribal Consultation” (http://www.whitehouse.gov/the-press-office/memorandum-tribal-consultation-signed-president), agency-specific guidance on tribal interactions, and applicable natural and cultural resource laws and regulations (e.g., NEPA, ESA, NHPA, and Migratory Bird Treaty Act).

Public hearing locations and times as described above under DATES and ADDRESSES will also be announced through the local media, the project Web site (http://plainswindeis.anl.gov), and an interested party mailing list. A presiding officer will establish only those procedures needed to ensure that everyone who wishes to speak has a chance to do so and that the agencies understand all issues and comments. Speakers will be asked to provide brief comments to allow adequate time to hear all comments. Depending upon the number of persons wishing to speak, the presiding officer may allow longer speaking times. Persons wishing to speak on behalf of an organization should identify that organization in their request to speak. Meetings will begin at the times specified and will continue until all those present who wish to participate have had an opportunity to do so. Should any speaker desire to provide further information for the record that cannot be presented within the designated time, such additional information may be submitted at the hearing, electronically, or by letter by April 13, 2013. Speakers are encouraged to provide a written version of their oral comments at the hearings to ensure the agencies capture all comments completely and accurately. A transcript of all comments offered during the public hearings will be prepared and made available.

The public is encouraged to communicate information and comments on issues it believes Western and the Service should address in the Final PEIS. The Agencies request that reviewers provide specific information and comments on factual errors, missing information, or additional considerations that should be corrected or included in the Final PEIS. Individual respondents may request confidentiality. The names, street addresses, and city or town information of those providing comments will be part of the administrative record, and will be subject to public disclosure unless confidentiality is requested. Such a request must be stated prominently at the beginning of the comment. We will honor requests to the extent allowed by law. All submissions from organizations or businesses, and from individuals identifying themselves as representatives or officials of organizations or businesses, will be available for public inspection in their entirety, consistent with applicable law.

After gathering public comments on what issues should be addressed in the Final PEIS, Western and the Service will identify and provide rationale in the Final PEIS on those issues addressed and those issues beyond the scope of the PEIS. Depending on the extent and nature of the comments received, the agencies may republish the entire PEIS incorporating responses to comments, or publish an abbreviated Final version that, together with the Draft PEIS, would constitute the Final PEIS.

Final PEIS Schedule and Availability

Western and the Service anticipate that comments will be incorporated and the Final PEIS to be available to the public in October, 2013. Separate Records of Decision addressing each agency's Federal actions will be issued by Western and the Service not sooner than 30 days following distribution of the Final PEIS, or about October, 2013.

Dated: March 15, 2013.
Anita J. Decker,
Acting Administrator, Western Area Power Administration.
Dated: March 15, 2013.
Noreen Walsh,
Regional Director, Mountain-Prairie Region, U.S. Fish and Wildlife Service.

[FR Doc. 2013-06614 Filed 3-21-13; 8:45 am]

BILLING CODE 6450-01-P